DEPARTMENT OF THE INTERIOR

Office of the Secretary

[245D0102DM, DS6CS00000, DLSN00000.000000, DX.6CS25]

Notice of Senior Executive Service Performance Review Board Appointments

AGENCY: Office of the Secretary, Interior.

ACTION: Notice of appointments.

SUMMARY: This notice provides the names of individuals appointed to serve on the Department of the Interior Senior Executive Service (SES) Performance Review Board.

DATES: These appointments take effect upon publication in the Federal Register.

FOR FURTHER INFORMATION CONTACT: To request additional information about this notice, contact Mark Green, Deputy Assistant Secretary—Human Capital and Diversity/Chief Human Capital Officer, by email at Mark_Green@ios.doi.gov, or by telephone at (202) 208-3100.

SUPPLEMENTARY INFORMATION: The individuals appointed to serve on the Department of the Interior SES Performance Review Board are as follows:

ANDERSON, JIM

BEARQUIVER, KEVIN

BOATMAN, QUAN

DEAM, SETH

GALLAGHER, KEVIN

HALL, KIM

MCDOWALL, LENA

RABY, JON

RAUCH, PAUL

SMILEY, KARLA

STREATER, EDDIE

TUCKER, KAPRICE

Authority: Title 5, U.S. Code, 4314.

Mark D. Green,
Deputy Assistant Secretary—Human Capital and Diversity, Chief Human Capital Officer.

[FR Doc. 2023-24908 Filed 11-9-23; 8:45 am]

BILLING CODE 4334-63-P